DEPARTMENT OF EDUCATION

Career and Technical Education Program—Promoting Rigorous Career and Technical Education Programs of Study

Catalog of Federal Domestic Assistance (CFDA) Number: 84.051C.

AGENCY: Office of Vocational and Adult Education, Department of Education.

ACTION: Notice of proposed priorities, requirements, and selection criteria.

SUMMARY: The Assistant Secretary for Vocational and Adult Education proposes priorities, requirements, and selection criteria for a program promoting rigorous career and technical education programs of study (POSs) through the use of ten key components based on the “Program of Study Design Framework” (Framework). We take this action to promote and improve State and local development and implementation of career and technical education (CTE) POSs that link secondary and postsecondary education, combine academic and career and technical education in a structured sequence of courses that progress from broad foundation skills to more occupationally specific courses (e.g., the States' Career Clusters, initially funded and launched by the Department (see http://www.careerclusters.org/index.php), and offer students the opportunities to earn postsecondary credits for courses taken in high school that lead to a postsecondary credential, certificate, or degree.

DATES: We must receive your comments on or before June 28, 2010.

ADDRESSES: Submit all comments about this notice to Laura Messenger, U.S. Department of Education, 400 Maryland Avenue, SW., room 11028, Potomac Center Plaza, Washington, DC 20202-7241.

If you prefer to send your comments by e-mail, use the following address: laura.messenger@ed.gov. You must include the term “POS Notice” in the subject line of your electronic message.

FOR FURTHER INFORMATION CONTACT: Laura Messenger. Telephone: 202-245-7840 or by e-mail: laura.messenger@ed.gov.

If you use a telecommunications device for the deaf (TDD), call the Federal Relay Service (FRS), toll free, at 1-800-877-8339.

SUPPLEMENTARY INFORMATION:

Invitation to Comment: We invite you to submit comments regarding this notice. To ensure that your comments have maximum effect in developing the notice of final priorities, requirements, and selection criteria, we urge you to identify clearly the specific proposed priority, requirement, or selection criterion that each comment addresses.

The Assistant Secretary is also particularly interested in receiving comments on the Program of Study (POS) Design Framework set forth in this notice. The Framework is available on the Department's Perkins Collaborative Resource Network (PCRN) Web site at: http://cte.ed.gov/nationalinitiatives/rposdesignframework.cfm. The Assistant Secretary also seeks comment on the status of a State's capacity and plan to collect employment data as part of a longitudinal data system linked to a State's educational data system.

We invite you to assist us in complying with the specific requirements of Executive Order 12866 and its overall requirement of reducing regulatory burden that might result from these proposed priorities, requirements, and selection criteria. Please let us know of any further ways we could reduce potential costs or increase potential benefits while preserving the effective and efficient administration of the program.

During and after the comment period, you may inspect all public comments about this notice in room 11028, 550 12th Street, SW., Washington, DC, between the hours of 8:30 a.m. and 4:00 p.m., Washington, DC time, Monday through Friday of each week except Federal holidays.

Assistance to Individuals with Disabilities in Reviewing the Rulemaking Record: On request, we will provide an appropriate accommodation or auxiliary aid to an individual with a disability who needs assistance to review the comments or other documents in the public rulemaking record for this notice. If you want to schedule an appointment for this type of accommodation or auxiliary aid, please contact the person listed under FOR FURTHER INFORMATION CONTACT.

Purpose of Program: The Promoting Rigorous Career and Technical Education Programs of Study program is authorized under section 114(c)(1) of the Carl D. Perkins Career and Technical Education Act of 2006 (Act). Under this section, the Secretary is authorized to carry out research, development, dissemination, evaluation and assessment, capacity building, and technical assistance with regard to CTE programs under the Act. Through this program, we intend to promote and improve State and local development and implementation of CTE POSs that link secondary and postsecondary education, combine academic and career and technical education in a structured sequence of courses that progress from broad foundation skills to more occupationally specific courses, offer students the opportunities to earn postsecondary credits for courses taken in high school, and lead to a postsecondary credential, certificate, or degree.

General Background:

To help States and local agencies meet the requirements of section 122(c)(1)(A) of the Act to provide career and technical programs of study, we held the first competition, entitled “Promoting Rigorous Career and Technical Education Programs of Study through Statewide or Multi-State Articulation Agreements” for this program in 2008. The proposals in this notice are informed by our experience with that competition and administering the six grants that were funded through that competition.

Subsequent to the 2008 competition, in early 2009 and in response to requests for assistance in developing and implementing POSs from State and local program administrators and national technical assistance providers, OVAE reviewed extant literature and case study research and developed a draft POS Design Framework. The draft Framework identified 10 components that, taken together, would support the development and implementation of rigorous and effective POSs. On June 11, 2009, the Office of Vocational and Adult Education (OVAE) convened a meeting of leading POS experts to gather feedback and input on the draft Framework. The experts included representatives from organizations such as the Association for Career and Technical Education, the National Association of State Directors of Career and Technical Education Consortium (NASDCTEc), the National Governors Association, the National Research Center for Career and Technical Education (NRCCTE), the Academy for Educational Development (AED), the National Career Pathways Network, the League for Innovation in the Community College, and MPR Associates, Inc.

At the meeting, participants agreed to work collaboratively with OVAE to complete a final version of the Framework and disseminate it for use by their organizations and by others engaged in POS development and implementation. In collaboration with major national associations and organizations, OVAE completed the Framework in January 2010. NASDCTEc, NRCCTE, AED, and MPR Associates, Inc. are currently using it to provide technical assistance to their POS projects with States and localities. Most of the proposed priorities, requirements, and selection criteria in this notice are based on the Framework.

Some of the proposals in this notice are consistent with three of the four areas the Secretary has identified as key for educational reform. The proposed requirement that States and localities adopt rigorous college and career readiness standards that define what students are expected to know and be able to do to enter and advance in college, their careers, or both, is consistent with the Secretary's goals in the area of standards and assessments. The proposed requirement for innovative and creative instructional approaches that enable teachers to integrate academic and technical instruction is consistent with the Secretary's goals for teacher effectiveness, as is the proposed requirement that projects provide sustained, intensive, and focused professional development opportunities so as to ensure that teachers have the necessary content knowledge to align and integrate curriculum and instruction. The proposed requirement that States and localities use well-designed State longitudinal data systems that yield valid and reliable data on a variety of secondary, postsecondary, and employment outcomes for individual students is consistent with the Secretary's goals for improving the capacity of Statewide longitudinal data systems.

The Assistant Secretary plans to make awards under the next POS competition for a 4-year project period.

Program Authority: 20 U.S.C. 2324(c)(1).

Proposed Priorities:

Types of Priorities:

When inviting applications for a competition using one or more priorities, we designate the type of each priority as absolute, competitive preference, or invitational through a notice in the Federal Register. The effect of each type of priority follows:

Absolute priority: Under an absolute priority, we consider only applications that meet the priority (34 CFR 75.105(c)(3)).

Competitive preference priority: Under a competitive preference priority, we give competitive preference to an application by (1) awarding additional points, depending on the extent to which the application meets the priority (34 CFR 75.105(c)(2)(i)); or (2) selecting an application that meets the priority over an application of comparable merit that does not meet the priority (34 CFR 75.105(c)(2)(ii)).

Invitational priority: Under an invitational priority, we are particularly interested in applications that meet the priority. However, we do not give an application that meets the priority preference over other applications (34 CFR 75.105(c)(1)).

This notice contains one proposed priority.

Proposed Competitive Preference Priority—Commitment to the Project

Background:

Section 122(c)(1) of the Act requires States to offer CTE POSs, which may be adopted by local educational agencies (LEAs) and postsecondary institutions as an option to students (and their parents, as appropriate), when planning for and completing coursework for career and technical content areas. Under section 134(b)(3)(A) of the Act, each local recipient of funds must offer the appropriate courses of not less than one career and technical program of study described in section 122(c)(1)(A). To align project activities with a State's ongoing POS efforts and to demonstrate a State's commitment of staff and other resources to fully executing the goals of the proposed project, the Assistant Secretary is proposing a priority for applications that propose to contribute funds from other sources of funds to the total cost of the project.

Proposed Competitive Preference Priority:

To meet this priority, the applicant must propose a budget that describes how the State will contribute 30 percent of the total cost of the project. For these purposes, the applicant may use—

(a) State leadership funds awarded under section 111 of the Act and as specified in section 112(a)(1) of the Act;

(b) Non-Federal contributions including in-kind contributions such as use of facilities, equipment, supplies, services, and other resources; or

(c) A combination of State leadership funds and non-Federal contributions.

Proposed Requirements:

Background:

Selected Program of Study. Since the Act was reauthorized in 2006, States and local recipients have worked to meet the POS requirements of section 122(c)(1) of the Act. We believe that the development of the Framework will provide significant support for those efforts. The Framework reflects the collective thinking of the Department and the primary organizations and associations engaged in POS development over the past several years, and identifies 10 components that support the development and implementation of rigorous and effective POSs. To date, POSs have differed widely from State to State. POSs may also differ widely from school district to school district within a State, as well as from school to school within a district. To ensure the rigor of funded POSs and consistency in their design and implementation, we propose to require States receiving grant awards under this program to implement a POS that is built and sustained with the 10 specific components in the Framework.

We note that in the 2008 competition, we provided funding to help States use statewide articulation agreements between secondary education and postsecondary institutions as a primary strategy for implementing POSs. In the proposed Selected Program of Study requirement, we refer to the statewide articulation agreements as “Credit Transfer Agreements” and the use of such agreements is one of the 10 components in the Framework. As proposed, credit transfer agreements would support the proper alignment of standards, curriculum, and instruction across educational levels and promote, to the extent possible, the awarding of postsecondary credit for courses taken during high school.

The 2008 competition also emphasized the creation of partnerships to ensure the rigor and quality of POSs. Through the experience gained from the work of the six projects funded under the 2008 competition, the POS efforts underway in other States, and the experience of leading POS experts, we have gained a better understanding of the level and complexity of the work required for effective POS implementation and of the program components that are necessary for the development and implementation of rigorous POSs. Accordingly, the Framework includes, and we are proposing in this requirement that States create, partnerships with education, business, and other key stakeholders.

Existing Technical Skills Assessments. States currently report on the technical skill attainment of CTE students at the secondary and postsecondary levels. In some cases, States are using third-party industry-recognized assessments to determine technical skill attainment. Where such assessments are not available, particularly at the secondary level, States have sought to develop their own assessments. When the assessments are based on industry standards, they may result in the granting of high school credit. When the assessments are based on industry standards and developed through collaboration between secondary and postsecondary institutions, they may result in the granting of postsecondary credit for high school students.

The Department recognizes that assessment development can be both costly and time-consuming.¹ As a result, given the limited funding available under this program and our intent to evaluate the progress of students enrolled in a POS, we propose to require States receiving grant awards under this program to implement a POS for which valid and reliable technical skills assessments (either industry-recognized assessments or State-developed or State-approved assessments based on industry standards that grant high school or postsecondary credit, or both) have been developed.

¹ For example, the Department recently announced, as part of its Race to the Top Assessment program, a High School Course Assessment program that will support consortia of States in the development of new or adapted assessments for high school courses. The competition includes a competitive preference priority for applications that include a high quality plan to develop, with relevant business community participation and support, assessments for high school courses that comprise a rigorous course of study in career and technical education that is designed to prepare high school students for success on technical certification examinations or for postsecondary education or employment.

Local Implementation. We also propose to require funded States to implement the selected POS in at least three LEAs that contain high schools, in concert with their postsecondary partners, beginning no later than the start of the academic year corresponding to year 2 of the grant. The applicant must include a letter of commitment from each LEA, expressing its interest in participating in the project and its commitment to implement the selected POS as prescribed by the State in years 2 through 4 of the grant. If an LEA contains more than one high school, it would be required to implement the selected POS in at least one of its high schools. To the extent feasible, the LEAs must implement the POS in at least one urban, one suburban, and one rural community. If an LEA currently does not have all 10 components in place, the State applicant must provide an assurance that each participating LEA will have all 10 components in place to support the selected POS when it is implemented in year 2. To achieve this end, we are proposing to require that CTE staff from the funded States provide technical assistance to the participating LEAs during the first year of the project in order to strengthen weak components or incorporate missing components. We also would require CTE staff from the funded States to continue to work closely with the participating LEAs throughout the project period, and provide technical assistance and support to ensure constancy in the implementation of the selected POS in the participating LEAs.

Evaluation. We propose to require each State receiving a grant award under this program to conduct an annual evaluation of its project by evaluating local implementation of the selected POS and using student outcome data on the performance measures listed elsewhere in this notice to assess the progress of students enrolled in the selected POS. To ensure consistency across the funded States in the use of student outcome data, we propose to require funded States to attend a Project Evaluation Design meeting in Washington, DC, following receipt of their grant awards, to discuss and possibly refine the grantee self-assessment tools related to the 10 Framework components that are developed by the grantees, and to work with OVAE and with each other to develop a plan for the States' use of student outcome data to assess the progress of students enrolled in the selected POS.

Capacity of Statewide Longitudinal Data System. Because we expect that the primary focus of this program will be to evaluate the progress of students enrolled in a POS, we propose to limit eligibility for awards to States whose longitudinal data systems have the capacity to link and share data among systems housing different types of data. The Department recognizes that States are at different stages in developing their capacities to link and share necessary information among systems. Nevertheless, we propose to fund only States that have the capability of collecting longitudinal data on a variety of secondary, postsecondary, and employment outcomes for individual students so that we may assess the long term outcomes of their participation in a POS.

Dissemination. The Act requires all States to offer POSs, which may be adopted by LEAs and postsecondary institutions as an option to students (and their parents, as appropriate) when they plan for and complete coursework in career and technical content areas. Each local recipient of funds under the Act must offer at least one career and technical POS. To assist all States and local recipients in their efforts to develop and implement rigorous POSs, we propose to require States receiving grant awards under this program to conduct specific dissemination activities during the grant period, such as sharing project materials via each State's Web site and participating in OVAE-sponsored POS meetings and presentations.

Cooperative Agreement. We also plan to make awards under the next POS competition under the terms of a cooperative agreement. In order to ensure consistency in POS implementation and evaluation across the funded States, we believe it is necessary for the Department to maintain substantial involvement in the implementation of POS projects funded under the next POS program competition and to provide close Department oversight of POS project activities. We believe that making these awards through cooperative agreements will facilitate that involvement and oversight.

Proposed Requirements:

The Assistant Secretary proposes the following requirements for this program. We may apply one or more of these requirements in any year in which this program is in effect.

Selected Program of Study: Applicants must propose a project to implement a State-developed or State-approved POS that is built and sustained with the following 10 Framework components:

(a) Legislation, Resources, and Policies: State and local legislation, resources, or administrative policies that promote POS development and implementation;

(b) Partnerships: Ongoing relationships among education, business, and other community stakeholders that support POS design, implementation, and maintenance;

(c) Professional Development: Sustained, intensive, and focused professional development opportunities for administrators, teachers, and faculty that foster POS design, implementation, and maintenance;

(d) Accountability and Evaluation Systems: Accountability and evaluation systems and strategies that gather quantitative and qualitative data on both POS components and student outcomes in order to inform ongoing efforts to develop and implement POSs and to determine their effectiveness;

(e) College and Career Readiness Standards: POS content standards that define what students are expected to know and be able to do to enter and advance in college, their careers, or both, and that include aligned academic and technical content;

(f) Course Sequences of Secondary and Postsecondary Courses: Course sequences within a POS that help students transition to postsecondary education without needing to duplicate classes or enroll in remedial courses.

(g) Credit Transfer Agreements: Formal credit transfer agreements among secondary schools and postsecondary institutions;

(h) Comprehensive Guidance Counseling and Academic Advisory Systems: Systems that provide career counseling and academic advisory services to help students make informed decisions about which POS to pursue;

(i) Teaching and Learning Strategies: Innovative and creative instructional approaches that enable teachers to integrate academic and technical instruction and also enable students to apply academic and technical learning in their POS coursework; and

(j) Technical Skills Assessments: Existing valid and reliable technical skills assessments that provide ongoing information on the extent to which students are attaining the necessary knowledge and skills for entry into and advancement in postsecondary education and careers in their chosen POS.

Each of these 10 components of the Framework has unique sub-components. The sub-components for each of the 10 components are in the Proposed Selection Criteria in this notice, under proposed paragraph (a)(3), State capacity to implement a rigorous program of study. Each State and its participating LEAs must use all the sub-components of the 10 Framework components that the State deems relevant to the selected POS and must explain how it plans to support the selected POS utilizing the relevant subcomponents.

Existing Technical Skills Assessments: Applicants must propose a project to implement a State-developed or State-approved POS for which valid and reliable technical skills assessments (either third-party industry-recognized assessments, or State-developed or State-approved technical skills assessments based on industry standards that grant high school or postsecondary credit, or both) have been developed.

Local Implementation: Applicants must propose a project to implement the selected POS in at least three LEAs that contain high schools, in concert with each LEA's postsecondary partners. If a participating LEA contains more than one high school, the LEA must implement the selected POS in at least one of its high schools. To the extent feasible, participating LEAs must implement the POS in at least one urban, one suburban, and one rural community. To be eligible for funding an applicant will be required to demonstrate that the LEAs chosen for participation in the POS project have the capacity to have all 10 Framework components in place by the beginning of year 2 of the project. The applicant must include a letter of commitment from each LEA, expressing its interest in participating in the project and its commitment to implement the selected POS as prescribed by the State in years 2 through 4 of the grant and to maintain constancy in the implementation of the selected POS. During year 1 of the grant, CTE staff from the funded States must provide technical assistance to their participating LEAs in order to strengthen weak components or incorporate missing components, so that all 10 components are in place to support the POS when it is implemented at the LEA level. The participating LEAs must implement the selected POS during years 2 through 4 of the grant, beginning at the start of the academic year corresponding to year 2 of the grant. The applicant must include a plan that describes how CTE State staff will continue to work closely with the LEAs throughout the project period, and provide technical assistance and support to ensure constancy in the implementation of the selected POS in the participating LEAs.

Evaluation: Applicants must propose to conduct an annual evaluation of the project to assess the constancy of the implementation of the selected POS in the participating LEAs and the effectiveness of each of the 10 components. To ensure consistency of implementation across the selected LEAs, CTE staff from the funded States must use a self-assessment instrument based on the 10 components as part of its project evaluation.

Applicants must also use student outcome data to assess the progress of students enrolled in the selected POS. To ensure consistency across the funded States, State staff must attend a POS Evaluation Design meeting in Washington, DC, following the receipt of the grant award, to discuss and possibly refine the grantee self-assessment tools related to the 10 Framework components that are developed by the grantees, and to work with OVAE and with each other to develop a plan for the States' use of student outcome data to assess the progress of students enrolled in the selected POS. This meeting will address evaluation and data collection issues, such as student definitions, the number and method of selection of students to be followed, strategies for comparing outcomes for students who participate in the POS to other students who do not, the identification of potential comparison groups through the States' longitudinal data systems, and timing of reporting. After the meeting, we will include the agreed-upon plan for the States' use of the student outcome data as an addendum to each grantee's cooperative agreement.

The State must also collect and report data annually on the following performance measures, which are based on the indicators of performance required under section 113(b) (State Performance Measures) and section 203(e) (Tech Prep Indicators of Performance and Accountability) of the Act:

(a) Secondary school completion. The percentage of secondary students participating in the POS supported by the grant award who earn a high school diploma.

(b) Technical skills attainment. The percentage of secondary students participating in the POS supported by the grant award who attain technical skills.

(c) Earned postsecondary credit during high school. The percentage of secondary students participating in the POS supported by the grant award who earn postsecondary credit.

(d) Enrollment in postsecondary education. The percentage of secondary students participating in the POS supported by the grant award who enroll in postsecondary education by the fall following high school graduation.

(e) Enrollment in postsecondary education in a field or major related to the secondary POS. The percentage of secondary students participating in the POS supported by the grant award who enroll in a postsecondary education program in a field or major related to the participant's secondary POS.

(f) Need for developmental course work in postsecondary education. The percentage of secondary students participating in the POS supported by the grant award who enroll in one or more postsecondary education developmental courses.

(g) Postsecondary credential, certificate, or diploma attainment. The percentage of secondary students participating in the POS supported by the grant award who attain an industry-recognized credential, certificate, or associate's degree, within two years following enrollment in postsecondary education.

Capacity of Statewide Longitudinal Data System: Applicants must propose the use of a longitudinal data system that has the capacity to link and share data among systems housing different types of data. The longitudinal data system must contain, at a minimum, the elements listed below. These elements are consistent with section 6401(e)(2)(D) of the America Competes Act (Pub. L. 110-69):

(a) Statewide unique student identifiers;

(b) Student-level enrollment data;

(c) Student-level course completion (transcript) data;

(d) The ability to match student-level secondary and postsecondary data;

(e) The ability to link student-level data to employment outcome data, such as Unemployment Insurance (UI) wage records; and

(f) A State data audit plan to verify that the education data are valid and reliable.

Applicants also must ensure (and include an assurance in their applications) that their use of data will be consistent with the requirements and protections contained in the Family Educational Rights and Privacy Act (FERPA).

Dissemination: Applicants must propose to implement a dissemination plan for the project. The plan must include the development and maintenance of a project Web page for posting project materials, such as: Materials describing the State's process for approving POSs submitted by local recipients of funds; curricula developed for the selected POS; technical assistance materials provided to the participating LEAs and to other local recipients of funds, if applicable; professional development materials; materials describing evaluation results, including performance data on the required performance measures based on the indicators of performance; and other materials containing practical information that would be useful to other States in their efforts to implement and evaluate POSs. Applicants must also participate in POS activities sponsored by the Department, such as annual POS grantee meetings in which grantees describe the progress of their projects and discuss common issues, strategies, and models of best practices; OVAE/POS grantee presentations at the States' Annual National Career Clusters Institutes; OVAE/POS grantee presentations at annual NASDCTEc meetings; and presentations at OVAE-sponsored data quality meetings.

Cooperative Agreement: We plan to make each award to grantees under this program under the terms of a cooperative agreement. We expect to work closely with the funded States to maintain substantial involvement in project implementation, and to provide oversight on project activities by working collaboratively to develop a plan for the use of student outcome data, reviewing and approving project activities, reviewing and approving one stage of work before the grantee can begin a subsequent stage during the project period, and halting an activity if it is not consistent with the program requirements.

Proposed Selection Criteria:

Background:

The first competition under the POS program was held in 2008. Since then, we have gained a better understanding of the level and complexity of the work required for effective POS implementation and of the program components that are necessary to implement rigorous POSs. The selection criteria proposed in this notice emphasize the implementation of POSs that are built and sustained with the 10 specific Framework components and the collection of valid and reliable longitudinal data, to ensure consistency across funded projects in the implementation and evaluation of POSs.

Proposed Selection Criteria:

The Assistant Secretary proposes the following selection criteria for evaluating an application under a POS competition. We may apply one or more of these criteria in any year in which we hold a competition under this program. In a notice inviting applications, in the application package, or in both, we will announce the maximum possible points assigned to each criterion.

(a) State capacity to implement a rigorous program of study: In determining the applicant's capacity to implement a rigorous POS, we review each application to determine the extent to which:

(1) The applicant proposes to build on existing State initiatives and partnerships in implementing the proposed project.

(2) The applicant selects a POS that will provide training leading to high-growth, high-demand, or high-wage occupations as determined through analysis of the national, State, or local labor market.

(3) The applicant provides evidence that it has selected a State-developed or State-approved POS that is built and sustained with the following 10 Framework components; that it has identified which of the sub-components from among those listed under each component are relevant to the selected POS; and that it plans to use those relevant sub-components in its POS and explains how it proposes to do so.

(i) State and local legislation, resources, or administrative policies that promote POS development and implementation, such as—

(A) The allocation of State or local funding (and other non-Federal resources) designed to promote POS development and long-term sustainability;

(B) The use of established, formal procedures for the design, implementation, and continuous improvement of POSs;

(C) Adherence to policies that ensure opportunities for any interested secondary student to participate in a POS; and

(D) The use of individual graduation or career plans for participating students.

(ii) Ongoing relationships among education, business, and other community stakeholders that support POS design, implementation, and maintenance, such as by—

(A) Using written memoranda that specify the roles and responsibilities of partnership members;

(B) Conducting ongoing analyses of economic and workforce trends to identify POSs that should be created, expanded, or, if appropriate, discontinued;

(C) Linking POS development to existing initiatives that promote workforce and economic development; and

(D) Identifying, validating, and updating technical and workforce readiness skills to be taught within POSs.

(iii) Sustained, intensive, and focused professional development opportunities for administrators, teachers, and faculty that foster POS design, implementation, and maintenance, and that—

(A) Support the alignment of academic and technical curriculum within the POS from grade to grade (within grades 9 through 12) and from secondary to postsecondary education;

(B) Support the development of integrated academic and CTE curriculum and instruction within the POS;

(C) Ensure that teachers and faculty have the necessary content knowledge to align and integrate curriculum and instruction within the POS; and

(D) Foster innovative teaching and learning strategies within the POS.

(iv) Accountability and evaluation systems and strategies that gather quantitative and qualitative data on both POS components and student outcomes to inform ongoing efforts to develop and implement POSs and to determine their effectiveness, and that—

(A) Yield valid and reliable data on key student outcomes (indicators of performance) referenced in the Act and other relevant Federal and State legislation; and

(B) Provide timely data to inform ongoing efforts to develop, implement, evaluate, and improve the effectiveness of POSs.

(v) POS content standards that define what students are expected to know and be able to do to enter and advance in college, their careers, or both, and that include aligned academic and technical content, and that—

(A) Are developed and continually validated in collaboration with secondary, postsecondary, and industry partners;

(B) Incorporate essential knowledge and skills that students must master regardless of their chosen career area or POS;

(C) Provide the same rigorous knowledge and skills in English-language arts and mathematics that employers and colleges expect of high school graduates; and

(D) To the extent practicable, are internationally benchmarked so that students are prepared to succeed in a global economy.

(vi) Course sequences within a POS that help ensure students' transition to postsecondary education without needing to duplicate classes or enroll in remedial courses, as evidenced by—

(A) Course sequence plans that map out recommended academic and career and technical courses for the POS;

(B) Course sequence plans that begin with introductory courses at the secondary level by teaching broad foundational knowledge and skills common across all POSs and then progress to more occupationally specific courses at the postsecondary level that provide the knowledge and skills required for entry into and advancement in the selected POS; and

(C) Opportunities for students to earn postsecondary credit for coursework taken during high school.

(vii) Formal credit transfer agreements among secondary schools and postsecondary institutions that—

(A) Provide a systematic, seamless process for students to earn college credit for postsecondary courses taken in high school, transfer high school credit to any two- or four-year institution in the State that offers the POS, and transfer credit earned at a two-year college to any other two- or four-year institution in the State that offers the POS;

(B) Record college credit earned by high school students on their high school transcripts at the time the credit is earned so that they can transfer seamlessly into the college portion of the POS without the need for additional paperwork or petitioning for credit; and

(C) Describe the expectations and requirements for teacher and faculty qualifications, course prerequisites, postsecondary entry requirements, location of courses, tuition reimbursement, and the credit transfer process.

(viii) Comprehensive guidance counseling and academic advisory systems that provide career counseling and academic advisory services to help students make informed decisions about which POS to pursue and that—

(A) Are based on State or local guidance and counseling standards, such as the National Career Development Guidelines;

(B) Ensure that guidance counselors and academic advisors have access to up-to-date information about POS offerings to aid students in their decision-making;

(C) Offer information and tools to help students learn about postsecondary education and career options, including about the prerequisites for particular POSs;

(D) Provide resources for students to identify career interests and aptitudes and to select an appropriate POS;

(E) Provide information and resources for parents, including workshops on college and financial aid applications, on helping their children prepare for college and careers; and

(F) Provide Web-based resources and tools for obtaining student financial assistance.

(ix) Innovative and creative instructional approaches that enable teachers to integrate academic and technical instruction and students to apply academic and technical learning in their POS coursework, as evidenced by—

(A) Interdisciplinary teaching teams of academic and career and technical secondary teachers or postsecondary faculty;

(B) The use of contextualized work-based, project-based, and problem-based learning approaches; and

(C) The use of teaching strategies that foster team-building, critical thinking, problem-solving, and communication skills.

(x) Existing Valid and reliable technical skills assessments that provide ongoing information on the extent to which students are attaining the necessary knowledge and skills for entry into and advancement in postsecondary education and careers in their chosen POS and that—

(A) Are either third-party assessments recognized by industry or are technical skills assessments developed or approved by the State that are based on industry standards;

(B) Measure student attainment of technical skill proficiencies at multiple points during a POS;

(C) Incorporate, to the greatest extent possible, performance-based assessment items through which students must demonstrate the application of their knowledge and skills; and

(D) Result in the awarding of secondary credit, postsecondary credit, or special designation on a student's high school diploma.

(b) Capacity of the State's longitudinal data system: In determining the State's capacity to collect longitudinal data on a variety of secondary, postsecondary, and employment outcomes for individual students in order to assess the progress of students enrolled in the selected POS, we review each application to determine the extent to which:

(1) The State's longitudinal data system contains, at a minimum, the following elements—

(i) Statewide unique student identifiers;

(ii) Student-level enrollment data;

(iii) Student-level course completion (transcript) data;

(iv) The ability to match student-level secondary and postsecondary data;

(v) The ability to link student-level data with employment outcome data, such as Unemployment Insurance (UI) wage records; and

(vi) A State data audit plan to verify that the education data are valid and reliable.

(2) The applicant provides evidence that project staff from the funded States will be able to work cooperatively with State data specialists and to access the student outcome data needed to meet annual evaluation and reporting requirements for the POS project.

(c) Local implementation plan:

In determining the quality of the plan for local implementation of the selected POS, we review each application to determine the extent to which—

(1) The applicant identifies each of the LEAs it has selected for local implementation of the POS and provides evidence of each LEA's capacity to implement the selected POS and the 10 components, as well as the estimated number of students who would participate in the POS in years 2 through 4 of the grant, by grade level.

(2) The participating LEAs represent urban, suburban, and rural communities; and

(3) The applicant includes a letter of commitment from each LEA, expressing its interest in participating in the project and its commitment to implementing the selected POS as prescribed by the State in years 2 through 4 of the grant and to maintain constancy in the implementation of the selected POS.

(4) In the case of LEAs that do not have all 10 components in place at the start of the project, the applicant outlines the specific actions it will take to ensure that weak or missing components are strengthened or created so that all 10 components are in place and the LEA is ready to implement the POS by the beginning of the academic year corresponding to year 2 of the grant.

(5) The applicant outlines a plan to provide ongoing oversight and technical assistance to the participating LEAs throughout the project period, to ensure constancy in the implementation of the selected POS across the participating LEAs.

(d) Project management. In determining the quality of the management plan for the proposed project, we review each application to determine the extent to which—

(1) The management plan incorporates, at a minimum, each of the proposed requirements included in this notice, and identifies specific and measurable objectives and tasks to be undertaken to accomplish each project activity;

(2) The management plan assigns responsibility for the accomplishment of project tasks to specific partners or project personnel and provides timelines that will result in the timely completion of all required project activities within each phase of the project;

(3) The Project Director and other key personnel clearly have the professional qualifications and experience necessary to implement their assigned project tasks; and

(4) The time commitments of the Project Director, key personnel, and partners are appropriate to the tasks assigned.

(e) Adequacy of resources. In determining the adequacy of resources for the proposed project, we consider the following factors:

(1) The adequacy of support to be provided (i.e., facilities, equipment, supplies, or other resources) by participating agencies and institutions at the State and local levels.

(2) Whether the budget is appropriate and the costs are reasonable in relation to the objectives and design of the proposed project.

(f) Evaluation: In determining the quality of the proposed project evaluation, we review each application to determine the extent to which—

(1) The proposed project evaluation is feasible and appropriate for evaluating the constancy of the implementation of the selected POS by the participating LEAs in years 2 through 4 of the grant.

(2) The proposed evaluation is feasible and appropriate for evaluating the effectiveness of each of the 10 components in each LEA.

(3) The proposed evaluation will be conducted by individuals or entities that possess the necessary background and expertise in project evaluation.

(4) The applicant expresses its commitment to participate in the Department's Evaluation Design Meeting and has included suggestions regarding the use of student outcome data that it could access through the State's longitudinal data system to assess the progress of students enrolled in the POS.

We will announce the final priorities, requirements, and selection criteria in a notice in the Federal Register. We will determine the final priorities, requirements, and selection criteria after considering responses to this notice and other information available to the Department. This notice does not preclude us from proposing additional priorities, requirements, definitions, or selection criteria, subject to meeting applicable rulemaking requirements.

Note: This notice does not solicit applications. In any year in which we choose to use one or more of these priorities, requirements, and selection criteria, we invite applications through a notice in the Federal Register.

Executive Order 12866: This notice has been reviewed in accordance with Executive Order 12866. Under the terms of the order, we have assessed the potential costs and benefits of this proposed regulatory action.

The potential costs associated with this proposed regulatory action are those resulting from statutory requirements and those we have determined as necessary for administering this program effectively and efficiently.

In assessing the potential costs and benefits—both quantitative and qualitative—of this proposed regulatory action, we have determined that the benefits of the proposed priorities, requirements, and selection criteria justify the costs. This action would provide additional resources to States to help them implement an existing statutory requirement under the Act, the implementation of programs of study at the State and local levels.

We have determined, also, that this proposed regulatory action does not unduly interfere with State, local, and tribal governments in the exercise of their governmental functions.

Intergovernmental Review: This program is subject to Executive Order 12372 and the regulations in 34 CFR part 79. One of the objectives of the Executive order is to foster an intergovernmental partnership and a strengthened federalism. The Executive order relies on processes developed by State and local governments for coordination and review of proposed Federal financial assistance.

This document provides early notification of our specific plans and actions for this program.

Accessible Format: Individuals with disabilities can obtain this document in an accessible format (e.g., Braille, large print, audiotape, or computer diskette) on request to the program contact person listed under FOR FURTHER INFORMATION CONTACT.

Electronic Access to This Document: You can view this document, as well as all other documents of this Department published in the Federal Register, in text or Adobe Portable Document Format (PDF) on the Internet at the following site: http://www.ed.gov/news/fedregister. To use PDF you must have Adobe Acrobat Reader, which is available free at this site.

Note: The official version of this document is the document published in the Federal Register. Free Internet access to the official edition of the Federal Register and the Code of Federal Regulations is available on GPO Access at: http://www.gpoaccess.gov/nara/index.html.

Brenda Dann-Messier,
Assistant Secretary for Vocational and Adult Education.

[FR Doc. 2010-12802 Filed 5-26-10; 8:45 am]

BILLING CODE 4000-01-P